DEPARTMENT OF TRANSPORTATION

Office of the Secretary

Aviation Proceedings, Agreements Filed the Week Ending July 4, 2009

The following Agreements were filed with the Department of Transportation under Sections 412 and 414 of the Federal Aviation Act, as amended (49 U.S.C. 1382 and 1384) and procedures governing proceedings to enforce these provisions. Answers may be filed within 21 days after the filing of the application.

Docket Number: DOT-OST-2009-0150.

Date Filed: June 29, 2009.

Parties: Members of the International Air Transport Association.

Subject: Mail Vote Number S 086. Departure Control Guidelines for Secure Flight (RPs 1707b, 1708, 1715, 1719 and 1719b).

Intended effective date: 1 June 2009.

Renee V. Wright,
Program Manager, Docket Operations, Federal Register Liaison.

[FR Doc. E9-16752 Filed 7-14-09; 8:45 am]

4910-9X-P